DEPARTMENT OF ENERGY

Federal Energy Regulatory Commission

[Docket No. CP06-452-001]

Trunkline Gas Company, LLC; Notice of Filing

October 15, 2007.

Take notice that on October 2, 2007, Trunkline Gas Company, LLC (Trunkline Gas), P.O. Box 4967, Houston, Texas 77210-4967, filed an abbreviated application pursuant to the Natural Gas Act (NGA) and Part 157 of the Commission's Rules and Regulations requesting authorization to amend its certificate issued on April 23, 2007. Trunkline Gas seeks amended authorization to reflect a change in the maximum capacity of the NTX Expansion and a revised cost in the certificated facilities due to a contribution in aid of construction. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Trunkline Gas proposes to increase the maximum capacity of the NTX Expansion from 510,000 Dekatherms per day (Dth/d) to 625,000 Dth/d due to the relocation of Energy Transfer Partners, L.P.'s (Energy Transfer) interconnection with Trunkline Gas. Trunkline Gas will provide a contribution in aid of construction (CIAC) toward Energy Transfer's cost of construction of facilities to effectuate deliveries to Trunkline Gas in the amount of $40,000,000. The total cost for the Field Zone Expansion increases from $158.9 million to $198.9 million.

Any questions regarding the application are to be directed to Stephen T. Veatch, Regulatory Affairs, at (713) 989-7000, Trunkline Gas Company, LLC, 5444 Westheimer Road, Houston, Texas 77056.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: October 25, 2007.

Kimberly D. Bose,
Secretary.

[FR Doc. E7-20879 Filed 10-23-07; 8:45 am]

BILLING CODE 6717-01-P